COMMISSION ON CIVIL RIGHTS

Sunshine Act Meetings

AGENCY: United States Commission on Civil Rights.

ACTION: Notice of meeting.

Date and Time: Thursday, August 2, 2007; 6 p.m.

Place: Via Teleconference; Public Call In Number: 1-800-597-7623.

Meeting Agenda

I. Approval of Agenda.

II. Approval of Minutes of July 13, Meeting.

III. Program Planning.

• FY 2007 Statutory Report.

IV. Future Agenda Items.

V. Adjourn.

Contact Person for Further Information: Manuel Alba, Press and Communications, (202) 376-8582.

Dated: July 24, 2007.
David Blackwood,
General Counsel.

[FR Doc. 07-3690 Filed 7-24-07; 4:42 pm]

BILLING CODE 6335-01-P